DEPARTMENT OF HEALTH AND HUMAN SERVICES

INDIAN HEALTH SERVICE

42 CFR Part 36

Joint Tribal and Federal Self-Governance Negotiated Rulemaking Committee

AGENCY: Indian Health Service (IHS), Department of Health and Human Services (DHHS).

ACTION: Notice of intent to establish negotiated rulemaking committee.

SUMMARY: As required by section 3 of the Negotiated Rulemaking Act of 1990, 5 U.S.C. 564, the Department of Health and Human Services, (DHHS) is giving notice of the intent to establish a Joint Tribal and Federal Self-Governance Negotiated Rulemaking Committee (Committee) to negotiate and develop a proposed rule implementing Title V of the Tribal Self-Governance Amendments of 2000; Public Law 106-260, (the Act). DHHS invites any interested party to comment on the proposal to create this negotiated rulemaking committee and on the proposed membership of the committee, which is subject to the requirements of the Act. In addition, DHHS invites persons who believe that they will be significantly affected by the proposed rule to apply or nominate other persons for membership on the negotiated rulemaking committee.

DATES: Written comments concerning this notice must be received on or before January 4, 2001. Nominations or applications for membership on the committee may be made by submitting applications on or before January 4, 2001. Each application must contain the information described in the “Application for Membership” section below.

ADDRESSES: Please submit comments and applications to: Paula K. Williams, Director, Office of Tribal Self-Governance, Indian Health Service, 5600 Fishers Lane, Room 5A-55, Rockville, MD 20857. Comments and applications received will be available for inspection at the address above from 9:00 a.m. to 3:00 p.m., Monday through Friday, beginning approximately two weeks after publication of this notice.

FOR FURTHER INFORMATION CONTACT: Paula K. Williams, Director, Office of Tribal Self-Governance, Indian Health Service, at the address listed above, or by telephone at 301-443-7821. (This is not a toll free number).

SUPPLEMENTARY INFORMATION: Section 517 of Title V of the Act, requires the Secretary, not later than 90 days after the date of the enactment of the Act, to initiate procedures under the Negotiated Rulemaking Act, 5 U.S.C. 561 et seq. to negotiate and promulgate the regulations necessary to carry out Title V. The Act calls for a negotiated rulemaking committee to be established pursuant to 5 U.S.C. 565, comprised only of Federal and tribal representatives, with a majority of the tribal government representatives representing Self-Governance tribes. The Committee will confer with and allow representatives of Indian tribes, inter-tribal consortiums, tribal organizations, and individual tribal members to actively participate in the rulemaking process. The Act also authorizes the Secretary to adapt negotiated rulemaking procedures to the unique context of Self-Governance and the government-to-government relationship between the United States and Indian tribes.

Copies of the Committee's charter will be filed with the appropriate committees of Congress and with the Library of Congress in accordance with section 9(c) of the Federal Advisory Committee Act, (FACA), 5 U.S.C. Appendix.

Scope of the Proposed Rule

The proposed rule generally will include provisions governing how DHHS/IHS carries out its responsibility to tribes under the Act and how tribes carry out their responsibility under the Act. Because of the detailed provisions contained in the Act, it is anticipated that regulations can be kept to a minimum. Examples of some areas where procedures may be required are for regulations waivers, appeals of rejection of final offers, or where regulations would be required, such as under sec. 507(a) which specifies that reporting requirements can only impose minimal burdens on a tribe and may only be imposed if they are contained in regulations developed under negotiated rulemaking. It is anticipated that the negotiated rulemaking committee will develop proposed regulations in any other areas that may be suggested during the process.

Interests Significantly Affected

A limited number of identifiable interests will be significantly affected by the rule. Those parties are Indian tribes, tribal organizations as defined in section 4(1) of the Indian Self-Determination and Education Assistance Act, and individual tribal members.

Proposed Agenda and Schedule for Publication of Proposed Rule

It is the Secretary's intent to publish the proposed rule for notice and comment no later than 1 year after the date of the enactment of the Act (August 18, 2000 + 1 year), as required by section 517(a)(2) of the Act.

The charter will specify that a minimum of three meetings will be held. The first meeting will serve as an organizational meeting to establish procedures, deadlines and a work schedule in order for the 12-month time period to be met.

Negotiated Procedures

The following procedures and guidelines will apply to the negotiated rulemaking committee, unless they are modified as a result of comments received on this notice or during the negotiation process.

The committee may use a neutral facilitator. The facilitator will not be involved with the substantive development or enforcement of the regulation. The facilitator's role is to help the negotiation process run smoothly, and help participants define and reach consensus.

The members of the committee, with the assistance of the facilitator, may adopt procedures for committee meetings which they consider most appropriate.

The goal of the negotiating process is for the committee to reach consensus on the proposed rule. Consensus means unanimous concurrence among the interests represented unless the committee agrees to define such term to mean general but not unanimous concurrence, or agrees upon another specified definition.

If the committee reaches consensus on the proposed rule, the committee shall transmit a report containing the proposed rule to the Secretary at the conclusion of negotiations. If the committee does not reach consensus on the proposed rule, it may transmit a report specifying any areas in which it did reach consensus, and any other recommendation it considers appropriate, including dissenting views of committee members. The DHHS, to the maximum extent consistent with its legal obligations, will use the consensus of the committee as the basis for a proposed rule for notice and comment. Parties to the negotiation may withdraw at anytime. If this happens, the remaining committee members will evaluate whether the committee should continue or be reconstituted.

Meetings will be held in the Washington, DC area, or in another location, at the convenience of the committee. DHHS will announce committee meetings in the Federal Register. These meetings will be open to the public.

Records of Meetings

In accordance with the requirements of the Federal Advisory Committee Act. 5 U.S.C. Appendix, DHHS will keep a record of all committee meetings.

Administrative Support

The Office of Tribal Self-Governance will provide funding for the costs of the committee, as well as administrative support and technical assistance, including logistical support services, for the activities of the committee.

Committee Membership

The Act requires that the committee be comprised only of Federal and tribal government representatives and that a majority of the tribal committee members be representatives from Self-Governance tribes. The Secretary has determined in accordance with 5 U.S.C. 565(b) that for the proper functioning of the committee and in order to achieve balanced membership and representation from all geographic regions that the committee membership not be limited to 25 members.

The following are the proposed members of the Joint Tribal and Federal Self-Governance Negotiated Rulemaking Committee:

Tribal Co-Chairman

Merle Boyd—Chairman, TSGAC, Second Chief, Sac and Fox Nation

Ron Allen—Alternative, Chairman/Executive Officer, Jamestown S'Klallam Indian Tribe

Self-Governance Tribes

1. Don Kashevaroff, Chairman of the Board, Alaska Native Tribal Health Consortium

2. Katherine Gotlieb, President/CEO, Southcentral Foundation

3. Valerie Davidson, General Counsel, Yukon-Kuskokwim Health Corporation

4. Carolyn Crowder, Alaska

5. Melanie Benjamin, Chief Executive, Mille Lacs Band of Ojibwe

6. Alvin Windy Boy, Sr., Councilman, Chippewa Cree Tribe of the Rocky Boy's Reservation, Rocky Boy Health Board

7. James T. Martin, Executive Director, United South & Eastern Tribes, Inc.

8. Merle Boyd, Second Chief, Sac and Fox Nation

9. Jefferson Keel, Lt. Governor, Chickasaw Nation

10. Wanda Stone, Chairperson, Kaw Nation

11. W. Ron Allen, Chairman/Executive Officer, Jamestown S'Klallam Indian Tribe

12. Willie Jones, Tribal Chairman, Lummi Indian Nation

Title I and Direct Service Tribes

1. Carol Anne Heart, Executive Director, Aberdeen Area Tribal Chairman's Health Board

2. Jim Hooper, Acting Executive Director, Ramah Navajo School Board

3. Jessica Berger, Health Director, Little River Band of Ottawa Indians

4. Gary Melbourne, Health Director, Fort Peck Tribal Health Department

5. Kelly Short-Slagley, Aqua Caliente Tribe, Vice President, Riverside-San Bernardino County Indian Health, Inc.

6. Albert Long, Navajo Nation, Department Director, Block Grants and Special Projects Department

7. William McKee, Individual Tribal Member

8. Garland Brunoe, Vice-Chairman, Confederated Tribes of Warm Springs

9. Bob Brobois, Secretary of Tribal Business, Spokane Tribe of Indians

10. Vernon James, Health Director, San Carlos Apache Tribe

11. Reuben Howard, Executive Director, Pasqua Yaqui Tribe

HHS/IHS Federal Team

1. Paula Williams—Lead Negotiator, Director, Office of Tribal Self-Governance, IHS

2. Leslie Morris—Alternate Lead Negotiator, Director, Division of Regulatory and Legal Affairs, IHS

3. Michael Mahsetky, Director, Legislative Affairs, IHS

4. Ronald C. Ferguson, Principal Engineer, Office of Environmental Health and Engineering, Office of Public Health, IHS

5. Duke McCloud, Senior Counsel, Office of General Counsel, DHHS

6. Eugenia Tyner-Dawson, Senior Advisor for Tribal Affairs, Office of Intergovernmental Affairs, DHHS

7. Katherine Hughes, Office of Grants Acquisition Management, DHHS

HHS/IHS Alternates

1. Kitty Marx, Senior Policy Analyst, Division of Regulatory and Legal Affairs, IHS

2. June Tracy, Legislative Specialist, Legislative Affairs, IHS

3. Eric Broderick, D.D.S., Principal Dental Consultant, IHS, Office of Public Health

4. Barbara Hudson, Senior Attorney, Office of General Counsel, DHHS

5. James Mason, Special Assistant to the Director, Office of Intergovernmental Affairs, DHHS

In addition to the tribal representatives identified above, DHHS solicits nominations of other tribal government representatives whose interest will be significantly affected by the rule.

Application for Membership

Each application or nomination for committee membership shall include:

1. Name, address, and telephone number of the nominee and the name of his or her tribe.

2. Evidence that the nominee is authorized to represent that tribe.

3. A written commitment from the nominee to actively participate in good faith in the development of the proposed rule.

The DHHS will give full consideration to all applications and nominations timely submitted.

Solicitation of Public Comments

Members of the public are invited to submit comments on this proposal to establish the Joint Tribal and Federal Self-Governance Negotiated Rulemaking Committee, as well as on the proposed membership of the committee.

November 6, 2000.
Michael H. Trujillo,
Assistant Surgeon General, Director, Indian Health Service, DHHS.

[FR Doc. 00-30698 Filed 12-4-00; 8:45 am]

BILLING CODE 4160-16-M